DEPARTMENT OF AGRICULTURE

Grain Inspection, Packers and Stockyards Administration

Designation for the Champaign, IL; Emmett, MI; Davenport, IA; Enid, OK; Keokuk, IA; Marshall, MI; and Omaha, NE Areas

AGENCY: Grain Inspection, Packers and Stockyards Administration, USDA.

ACTION: Notice.

SUMMARY: GIPSA is announcing the designation of the following organizations to provide official services under the United States Grain Standards Act, as amended (USGSA): Champaign-Danville Grain Inspection Departments, Inc. (Champaign); Detroit Grain Inspection Service, Inc. (Detroit); Eastern Iowa Grain Inspection and Weighing Service, Inc. (Eastern Iowa); Enid Grain Inspection Company, Inc. (Enid); Keokuk Grain Inspection Service (Keokuk); Michigan Grain Inspection Services, Inc. (Michigan); and Omaha Grain Inspection Service, Inc. (Omaha).

DATES: Effective Date: April 1, 2010.

ADDRESSES: William A. Ashley, Acting Branch Chief, Review Branch, Compliance Division, GIPSA, USDA, STOP 3604, Room 1647-S, 1400 Independence Avenue, SW., Washington, DC 20250-3604.

FOR FURTHER INFORMATION CONTACT: William A. Ashley, 202-720-8262 or William.A.Ashley@usda.gov.

Read Applications: All applications and comments will be available for public inspection at the office above during regular business hours (7 CFR 1.27(c)).

SUPPLEMENTARY INFORMATION: In the September 4, 2009, Federal Register (74 FR 45803), GIPSA requested applications for designation to provide official services in the geographic areas presently serviced by the agencies named above. Applications were due by October 1, 2009.

Champaign, Detroit, Eastern Iowa, Enid, Keokuk, Michigan, and Omaha were the sole applicants for designations to provide official services in these areas. As a result, GIPSA did not ask for additional comments.

GIPSA evaluated all available information regarding the designation criteria in section 7(f)(1) of the USGSA (7 U.S.C. 79(f)) and determined that Champaign, Detroit, Eastern Iowa, Enid, Keokuk, Michigan, and Omaha are able to provide official services in the geographic areas specified in the September 4, 2009 Federal Register for which they applied. These designation actions to provide official services in the specified areas are effective April 1, 2010 and terminate on March 31, 2013.

Interested persons may obtain official services by calling the telephone numbers listed below:

Official agency | Headquarters location and telephone | Designation start | Designation end
Champaign | Champaign, IL (217-398-0723). Additional Locations: Hoopeston, IL; Lake Village, IN; and Terre Haute, IN | 4/1/2010 | 3/31/2013
Detroit | Emmett, MI (810-395-2105) | 4/1/2010 | 3/31/2013
Eastern Iowa | Davenport, IA (563-322-7149). Additional Locations: Dubuque, IA; Muscatine, IA; Gladstone, IL; and Rochelle, IL | 4/1/2010 | 3/31/2013
Enid | Enid, OK (916-374-9700). Additional Location: Catoosa, OK | 4/1/2010 | 3/31/2013
Keokuk | Keokuk, IA (319-524-6482). Additional Location: Havana, IL | 4/1/2010 | 3/31/2013
Michigan | Marshall, MI (269-781-2711). Additional Locations: Cairo, OH and Carrollton, MI | 4/1/2010 | 3/31/2013
Omaha | Omaha, NE (402-341-6739) | 4/1/2010 | 3/31/2013

Section 7(f)(1) of the USGSA authorizes GIPSA's Administrator to designate a qualified applicant to provide official services in a specified area after determining that the applicant is better able than any other applicant to provide such official services (7 U.S.C. 79(f)(1)).

Under section 7(g)(1) of the USGSA, designations of official agencies are effective for 3 years unless terminated by the Secretary; however, designations may be renewed according to the criteria and procedures prescribed in section 7(f) of the Act.

Authority: 7 U.S.C. 71-87k.

J. Dudley Butler,
Administrator, Grain Inspection, Packers and Stockyards Administration.

[FR Doc. 2010-7120 Filed 3-30-10; 8:45 am]

BILLING CODE 3410-KD-P